FEDERAL TRADE COMMISSION

Sunshine Act Meeting

AGENCY: Federal Trade Commission.

Time and Date: 2 p.m., Monday, July 18, 2005.

Place: Federal Trade Commission Building, Room 532, 600 Pennsylvania Avenue, NW., Washington, DC 20580.

Status: Part of this meeting will be open to the public. The rest of the meeting will be closed to the public.

Matters to be Considered:

Portion Open to the Public

(1) Oral Argument In the Matter of North Texas Specialty Physicians, Docket 9312.

Portion Closed to the Public

(2) Executive Session to follow Oral Argument in North Texas Specialty Physicians, Docket 9312.¹

¹ This meeting has been rescheduled from June 10, 2005. See 70 FR 30729 (May 27, 2005).

Contact Person for More Information: Mitchell J. Katz, Office of Public Affairs: (202) 326-2180. Recorded Message: (202) 326-2711.

Donald S. Clark,
Secretary.

[FR Doc. 05-13177 Filed 6-29-05; 8:45 am]

BILLING CODE 6750-01-M